DEPARTMENT OF ENERGY

Office of Science Financial Assistance Program Notice 02-18: Energy Biosciences

AGENCY: Department of Energy (DOE)

ACTION: Notice inviting grant applications.

SUMMARY: The Office of Basic Energy Sciences of the Office of Science (SC), U.S. Department of Energy (DOE) invites applications from potential applicants for research funding in the Energy Biosciences program area. The Energy Biosciences program has the mission of generating knowledge about plants and non-medical microorganisms that provides scientific foundations for future energy related biotechnologies.

DATES: For timely consideration, all preapplications should be received by February 27, 2002. However, earlier submissions will be gladly accepted. A response to timely preapplications will be communicated to the applicant by April 12, 2002. The deadline for receipt of formal applications is June 13, 2002.

ADDRESSES: Preapplications referencing Program Notice 02-18, should be sent by electronic mail to: energy.biosciences@science.doe.gov. Attn: Program Notice 02-18.

Formal applications, referencing Program Notice 02-18, must be sent to: U.S. Department of Energy, Office of Science, Grants and Contracts Division, SC-64, 19901 Germantown Road, Germantown, MD 20874-1290, ATTN: Program Notice 02-18. This address must also be used when submitting applications by U.S. Postal Service Express Mail or any commercial overnight delivery service, or when hand-carried by the applicant.

FOR FURTHER INFORMATION CONTACT: Ms. Pat Snyder, Chemical Sciences, Geosciences and Biosciences Division, Office of Basic Energy Sciences, SC-143, 19901 Germantown Road, Germantown, MD 20874-1290, telephone (301) 903-2873; E-mail to: pat.snyder@science.doe.gov.

SUPPLEMENTARY INFORMATION: Potential applicants should submit a brief preapplication that consists of two to three pages of narrative describing research objectives. These will be reviewed relative to the scope and the research needs of the Energy Biosciences program. The principal purpose in using preapplications is to reduce the expenditure of time and effort on the part of the applicant.

The Energy Biosciences program has the mission of generating knowledge about plants and non-medical microorganisms that provides scientific foundations for future energy related biotechnologies. Areas of interest include bioenergetic systems, including photosynthesis; control of plant growth and development, including metabolic, genetic and hormonal regulation, metabolic diversity, ion uptake, transport and accumulation; genetic transmission and expression; plant-microbial interactions; plant cell wall structure and function; lignocellulose degradative mechanisms; anaerobic metabolism, energetics and membrane phenomena; microbial interactions; and one-carbon metabolism, which is the basis of biotransformations such as methanogenesis. The program also encourages fundamental biological research that interfaces with traditional disciplines in the physical and earth sciences. The objective is to discern and understand basic mechanisms and principles.

Program Funding

It is anticipated that approximately $2,000,000 will be available for grant awards during FY 2003, contingent upon the availability of appropriated funds. Multiple year funding of grant awards is expected, also contingent upon the availability of appropriated funds, progress of the research and continuing program need. Applications received by the Office of Science, Office of Basic Energy Sciences, under its current competitive application mechanisms may be deemed appropriate for consideration under this notice and may be funded under this program.

The intent in asking for a preapplication is to save the time and effort of applicants in preparing and submitting a formal project application that may be inappropriate for the program. The preapplication should consist of a two to three page concept paper that focuses on the scientific objectives and basic research approaches planned. No budget information or biographical data need be included; nor is an institutional endorsement necessary. The preapplication gives us the opportunity to advise potential applicants on the suitability of the scope of the research proposed to the mission of the DOE Energy Biosciences program. A response indicating the appropriateness of submitting a formal application will be sent from the Energy Biosciences program office in time to allow for an adequate preparation period for a formal application.

When a formal application is made, it must be 10 pages or less, exclusive of figure illustrations, and include the hypotheses being tested and the proposed experimental design. Additional pages must include a one-page abstract or summary of the proposed research, curriculum vitae, a listing of all current and pending federal support, and letters of intent when collaborations are part of the proposed research.

Merit Review

Applications will be subjected to a scientific merit review and will be evaluated against the following criteria, which are listed in descending order of importance as set forth in 10 CFR part 605:

1. Scientific and/or Technical Merit of the Project,

2. Appropriateness of the Proposed Method or Approach,

3. Competency of Applicant's Personnel and Adequacy of Proposed Resources,

4. Reasonableness and Appropriateness of the Proposed Budget.

Information about development and submission of applications, eligibility, limitations, evaluations and selection processes, and other policies and procedures may be found in the 10 CFR part 605 and the Application Guide for the Office of Science Financial Assistance Program. Electronic access to SC's Financial Assistance Guide is possible via the Internet using the following Web Site address: http://www.sc.doe.gov/production/grants/grants.html. DOE is under no obligation to pay for any costs associated with the preparation or submission of applications if an award is not made.

The Catalog of Federal Domestic Assistance number for this program is 81.049, and the solicitation control number is ERFAP 10 CFR part 605.
Issued in Washington, DC on February 4, 2002.
John Rodney Clark,
Associate Director of Science for Resource Management.

[FR Doc. 02-3336 Filed 2-11-02; 8:45 am]

BILLING CODE 6450-02-U